DEPARTMENT OF COMMERCE

International Trade Administration

[A-428-840]

Lightweight Thermal Paper From Germany: Rescission of Antidumping Duty Administrative Review; 2013-2014

AGENCY: Enforcement and Compliance, International Trade Administration, Department of Commerce.

SUMMARY: The Department of Commerce (the Department) is rescinding its administrative review of the antidumping duty order on lightweight thermal paper (LWTP) from Germany for the period of November 1, 2013, through November 23, 2013, based on the withdrawal of all requests for review.

DATES: Effective Date: April 7, 2015.

FOR FURTHER INFORMATION CONTACT: David Goldberger, AD/CVD Operations, Office II, Enforcement and Compliance, International Trade Administration, U.S. Department of Commerce, 14th Street and Constitution Avenue NW., Washington, DC 20230; telephone: (202) 482-4136.

SUPPLEMENTARY INFORMATION:

Background

On November 3, 2014, the Department published in the Federal Register a notice of opportunity to request an administrative review of the antidumping duty order on LWTP from Germany for the period of review (POR) November 1, 2013, to October 31, 2014.¹

¹ See Antidumping or Countervailing Duty Order, Finding, or Suspended Investigation; Opportunity To Request Administrative Review, 79 FR 65176 (November 3, 2014).

On December 1, 2014, in accordance with section 751(a) of the Tariff Act of 1930, as amended (the Act), and 19 CFR 351.213(b), the Department received a timely request from Appvion Inc. (the petitioner), a domestic interested party, to conduct an administrative review of the POR sales of Papierfabrik August Koehler SE (Koehler). Also on this date, Koehler timely requested a review of its POR sales.

On December 23, 2014, the Department published in the Federal Register a notice of initiation of an administrative review of the antidumping duty order on LWTP from Germany with respect to Koehler.² On January 7, 2015, Koehler withdrew its request for review.³ On January 30, 2015, as a result of a five-year (“sunset”) review, the Department revoked the antidumping duty order on imports of LWTP from Germany, effective November 24, 2013.⁴ Therefore, the POR for this administrative review was revised to November 1, 2013, through November 23, 2013.⁵

² See Initiation of Antidumping and Countervailing Duty Administrative Reviews, 79 FR 76956 (December 23, 2014).

³ See January 7, 2015, Letter from Koehler.

⁴ See Lightweight Thermal Paper From the People's Republic of China and Germany: Continuation of the Antidumping and Countervailing Duty Orders on the People's Republic of China, Revocation of the Antidumping Duty Order on Germany, 80 FR 5083 (January 30, 2015).

⁵ See February 10, 2015, Memorandum to the File regarding revision of POR due to revocation of antidumping duty order.

On February 20, 2015, the petitioner withdrew its request for review of Koehler.⁶

⁶ See February 20, 2015, Letter from the petitioner.

Rescission of Administrative Review

Pursuant to 19 CFR 351.213(d)(1), the Department will rescind an administrative review, in whole or in part, if the parties that requested a review withdraw the request within 90 days of the date of publication of the notice of initiation of the requested review. Koehler and the petitioner withdrew their requests for review before the 90-day deadline (i.e., March 23, 2015), and no other party requested an administrative review of the antidumping duty order on LWTP from Germany for the POR. Therefore, in response to the timely withdrawal of requests for review and pursuant to 19 CFR 351.213(d)(1), the Department is rescinding this review in its entirety.

Assessment

The Department will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions directly to CBP 15 days after the date of publication of this notice in the Federal Register.

Notification to Importers

This notice serves as the only reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of the return or destruction of APO materials, or conversion to judicial protective order, is hereby requested. Failure to comply with the regulations and the terms of an APO is a sanctionable violation.

This notice is published in accordance with section 777(i)(1) of the Act, and 19 CFR 351.213(d)(4).

Dated: April 1, 2015.
Gary Taverman,
Associate Deputy Assistant Secretary for Antidumping and Countervailing Duty Operations.

[FR Doc. 2015-07973 Filed 4-6-15; 8:45 am]

BILLING CODE CODE 3510-DS-P